DEPARTMENT OF TRANSPORTATION

Federal Aviation Administration

14 CFR Parts 121, 125, and 135

[Docket No.: FAA-2003-15682; Amendment Nos. 121-288, 125-42, 135-84]

RIN 2120-AH89

Digital Flight Data Recorder Requirements—Changes to Recording Specifications and Additional Exceptions; Correction

AGENCY: Federal Aviation Administration (FAA), DOT.

ACTION: Final rule, correction.

SUMMARY: This document makes corrections to the final rule published in the Federal Register on July 18, 2003. This document makes some minor corrections and it also adds Parameter 15 to the document under parts 121 and 125, and changes the resolution in Parameter 15 by 0.1%.

DATES: This correction is effective August 18, 2003.

FOR FURTHER INFORMATION CONTACT: Gary Davis, Flight Standards Service, Air Transportation Division; telephone (202) 267-8166; facsimile (202) 267-5229; e-mail gary.davis@faa.gov.

Background

In response to a series of recommendations issued by the National Transportation Safety Board (NTSB), the FAA revised and updated parts 121, 125 and 135 of Title 14, Code of Federal Regulations (14 CFR) in 1997 to require that flight data recorders on U.S. registered airplanes be upgraded to record additional parameters of data (62 FR 38362, July 17, 1997). The exact number of parameters required depends on the age of the airplane; airplanes manufactured after August 19, 2002, must record 88 parameters of flight data.

The final rule published on July 18, 2003 (68 FR 42932) amends the flight data recorder regulations by expanding the recording specifications of certain data parameters for specified airplanes, and by adding aircraft models to the lists of aircraft excepted from the 1997 regulations. In addition, this rule corrects specifications in an operating rule appendix that were inadvertently omitted in previous actions. These changes are necessary to allow the continued operation of certain aircraft that are unable to meet the existing recorder criteria using installed equipment. The changes are also necessary for certain aircraft for which the cost to retrofit under 1997 regulatory changes would be cost prohibitive.

List of Subjects

14 CFR Part 121

Air carriers, Aircraft, Aviation safety, Reporting and recordkeeping requirements, Safety, Transportation.

14 CFR Part 125

Aircraft, Aviation safety, Reporting and recordkeeping requirements.

14 CFR Part 135

Air taxis, Aircraft, Aviation safety, Reporting and record keeping requirements.

The Amendment

In consideration of the foregoing, the Federal Aviation Administration corrects Chapter I of Title 14, Code of Federal Regulations as follows:

Correction

In the final rule “Digital Flight Data Recorder Requirements—Changes to Recording Specifications and Additional Exceptions” published in the Federal Register on July 18, 2003, FR Doc. No. 03-18269 (68 FR 42932) make the following correction:

1. On Page 42932, in the first column, in the document heading, correct “RIN 2120-AH81” to read “RIN 2120-AH89”.

2. On Page 42936, in the second column, in paragraph (2), line 9, correct the words “Jetstream 4100” to read “Jetstream 4100 Series,”.

3. On Page 42936, in the third column, in Amendment Number 4, line 2, correct “5, 9, 12a, 14a, 16,” to read “5, 9, 12a, 14a, 15, 16,”.

4. On Page 42937, in the second column, in paragraph (2), line 9, correct the words “Jetstream 4100” to read “Jetstream 4100 Series,”.

5. On Page 42937, in the third column, in Amendment Number 9, line 2, correct “5, 9, 12a, 14a, 16,” to read “5, 9, 12a, 14a, 15, 16,”.

6. In the charts on pages 42936 and 42938 after “14a” insert the following:

15. Pitch Control Surface(s) Position.⁶ | Full Range | +/−2° Unless Higher Accuracy Uniquely Required. | 0.5 or 0.25 for airplanes operated under § 135.152(j). | 0.3% of full range. | For airplanes fitted with multiple or split surfaces, a suitable combination of inputs is acceptable in lieu of recording each surface separately. The control surfaces may be sampled alternately to produce the sampling interval of 0.5 or 0.25.

7. On page 42939, in the “Parameters” column, in 15, in the “Resolution” column, correct “0.2% of full range” to read “0.3% of full range.”.

Issued in Washington, DC, on August 12, 2003.
Donald P. Byrne,
Assistant Chief Counsel for Regulations.

[FR Doc. 03-21329 Filed 8-19-03; 8:45 am]

BILLING CODE 4910-13-U